DEPARTMENT OF TRANSPORTATION

Surface Transportation Board

Recordations, Water Carrier Tariffs, and Agricultural Contract Summaries

AGENCY: Surface Transportation Board, DOT.

ACTION: Notice of OMB Approval of Information Collections.

SUMMARY: Pursuant to the Paperwork Reduction Act, 44 U.S.C. 3501-3519 (PRA) and Office of Management and Budget (OMB) regulations at 5 CFR 1320.10, the Surface Transportation Board has obtained OMB approval for the information collections listed below with assigned OMB control numbers and the dates on which these approvals will expire if not renewed.

(1) Recordations, Control Number 2140-0025

(2) Water Carrier Tariffs, Control Number 2140-26

(3) Agricultural Contract Summaries, Control Number 2140-0024

See 78 FR 18675-01 (Mar. 27, 2013).

Unless renewed, OMB approval for each of these collections expires on August 31, 2016. The display of a currently valid OMB control number for this collection is required by law. Under the PRA and 5 CFR 1320.8, an agency may not conduct or sponsor, and a person is not required to respond to, a collection of information unless the collection displays a currently valid OMB control number.

Jeffrey Herzig,
Clearance Clerk.

[FR Doc. 2013-28613 Filed 11-27-13; 8:45 am]

BILLING CODE 4915-01-P